DEPARTMENT OF TRANSPORTATION

[DOT-OST-2024-0127]

Solicitation for Annual Combating Human Trafficking in Transportation Impact Award

AGENCY: Office of the Secretary of Transportation, U.S. Department of Transportation.

ACTION: Notice.

SUMMARY: The annual Combating Human Trafficking in Transportation Impact Award (the award) is a component of the Department of Transportation's (DOT) Transportation Leaders Against Human Trafficking initiative that seeks to raise awareness among transportation stakeholders about human trafficking and increase training and prevention to combat the crime. The award serves as a platform for transportation stakeholders to creatively develop impactful and innovative counter-trafficking tools, initiatives, campaigns, and technologies that can be shared with the broader community to help stop human trafficking. The award is open to individuals and entities, including non-governmental organizations, transportation industry associations, research institutions, and State and local government organizations. Entrants compete for a cash award of up to $50,000 to be awarded to the individual(s) or entity selected for creating the most impactful counter-trafficking initiative or technology.

DATES: Submissions will be accepted from January 6, 2025 through 11:59 p.m. PST/2:59 a.m. EST on March 7, 2025.

ADDRESSES: Additional information regarding the Department's counter-trafficking activities can be found at www.transportation.gov/stophumantrafficking.

Additional information regarding the Department's counter-trafficking activities can be found at www.transportation.gov/stophumantrafficking. To register your intent to compete individually or as part of a team, visit www.transportation.gov/stophumantrafficking, email trafficking@dot.gov, or contact the Office of International Transportation and Trade at (202) 366-4398.

SUPPLEMENTARY INFORMATION:

Award Approving Official: The Secretary of Transportation (Secretary).

Subject of Award Competition: The Combating Human Trafficking in Transportation Impact Award recognizes impactful, innovative, and shareable approaches to combating human trafficking in the transportation industry.

Problem

As many as 27.6 million men, women, and children are held against their will and trafficked into forced labor and commercial sex. Transportation figures prominently in human trafficking enterprises when traffickers move victims, which uniquely positions the industry to combat the crime.

Challenge

The Combating Human Trafficking in Transportation Impact Award is looking for the best innovators to develop original, impactful, unique, and shareable human trafficking tools, initiatives, campaigns, and technologies that can help stop these heinous crimes in the transportation industry.

Eligibility

To be eligible to participate in the Combating Human Trafficking in Transportation Impact Award competition, private entities must be incorporated in and maintain a primary place of business in the United States, and individuals must be citizens or permanent residents of the United States. There is no charge to enter the competition.

Rules, Terms, and Conditions

The following additional rules apply:

1. Entrants shall submit a project to the competition under the rules promulgated by the Department in this Notice;

2. Entrants must indemnify, defend, and hold harmless the Federal Government from and against all third-party claims, actions, or proceedings of any kind and from any and all damages, liabilities, costs, and expenses relating to or arising from participant's submission or any breach or alleged breach of any of the representations, warranties, and covenants of participant hereunder. Entrants are financially responsible for claims made by a third party;

3. Entrants may not be a Federal entity, Federal employee acting within the scope of their employment, or a family member of a Federal Employee;

4. Entrants may not be an employee or family member of an employee of the U.S. Department of Transportation;

5. Entrants shall not be deemed ineligible because an individual used Federal facilities or consulted with Federal employees during a competition if the facilities and employees are made available to all individuals participating in the competition on an equitable basis;

6. The entries cannot have been submitted in the same or substantially similar form in any other previous Federally sponsored promotion or Federally sponsored competition;

7. Entrants previously awarded first place are not eligible to reenter for the same or substantially similar project;

8. Entries which, in the Department's sole discretion, are determined to be substantially similar to another entity's entry submitted to this competition may be disqualified;

9. The competition is subject to all applicable Federal laws and regulations. Participation constitutes the entrants' full and unconditional agreement to these rules and to the Secretary's decisions, which are final and binding in all matters related to this competition;

10. Entries must be original, be the work of the entrant and/or nominee and must not violate the rights of other parties. All entries remain the property of the entrant. Each entrant represents and warrants that:

• Entrant is the sole author and owner of the submission;

• The entry is not the subject of any actual or threatened litigation or claim;

• The entry does not and will not violate or infringe upon the intellectual property rights, privacy rights, publicity rights, or other legal rights of any third party; and

• The entry does not and will not contain any harmful computer code (sometimes referred to as “malware,” “viruses,” or, “worms”).

11. By submitting an entry in this competition, entrants agree to assume any and all risks and waive any claims against the Federal Government and its related entities (except in the case of willful misconduct) for any injury, death, damage, or loss of property, revenue or profits, whether direct, indirect, or consequential, arising from their participation in this competition, whether the injury, death, damage, or loss arises through negligence of otherwise. Provided, however, that by registering or submitting an entry, entrants and/or nominees do not waive claims against the Department arising out of the unauthorized use or disclosure by the agency of the intellectual property, trade secrets, or confidential information of the entrant;

12. The Secretary or the Secretary's designees have the right to request additional supporting documentation regarding the application from the entrants and/or nominees;

13. Each entrant grants to the Department, as well as other Federal agencies with which it partners, the right to use names, likeness, application materials, photographs, voices, opinions, and hometown and state for the Department's promotional purposes in any media, in perpetuity, worldwide, without further payment or consideration;

14. If selected, the entrant and/or nominee must provide written consent granting the Department and any parties acting on their behalf, a royalty-free, non-exclusive, irrevocable, worldwide license to display publicly and use for promotional purposes the entry (“demonstration license”). This demonstration license includes posting or linking to the entry on Department websites, including the Competition website, and partner websites, and inclusion of the entry in any other media, worldwide;

15. Applicants that are Federal grant recipients may not use Federal funds to develop submissions or to fund efforts in support of a submission;

16. Federal contractors may not use Federal funds from a contract to develop submissions or to fund efforts in support of a submission; and

17. The submission period begins on January 6, 2025. Submissions must be sent by 11:59 p.m. PST/2:59 a.m. EST on March 7, 2025. The timeliness of submissions will be determined by the time stamp of the Microsoft Form submission. Competition administrators assume no responsibility for lost or untimely submissions for any reason.

Submission Requirements

Applicants must submit entries using the following Microsoft Forms link: https://forms.office.com/g/XVPzafGs5G. Please contact trafficking@dot.gov for any submission issues via Microsoft Forms.

Expression of Interest: While not required, entrants are strongly encouraged to send brief expressions of interest to DOT prior to submitting entries. The expressions of interest should be sent by February 5, 2025 to trafficking@dot.gov, and include the following elements: (1) Name and title of entrant(s); (2) Telephone and email address; and (3) A synopsis of the concept, limited to no more than two pages.

Please ensure your submission package includes EACH of the following twelve elements:

1. Mode(s)

Specify which transportation mode(s) the proposal will focus on.

2. Title

The proposal title.

3. Entity

The name of the organization(s) being nominated, or the name(s) and title(s) of the individual(s) being nominated.

4. Submitted By

Include name, title, phone, email, website URL, and mailing address.

If the point of contact for the proposal is different, also specify their name, title, phone, and email.

5. Background

Brief background regarding the submitting individual(s) or organization(s) that includes relevant counter-trafficking expertise.

6. Partners

If applicable, list the partners who will be engaged in proposal development and/or implementation, including a brief background for each.

7. Letters of Support

You may submit supporting letters, which may be from subject matter experts or industry, and may address the technical merit of the concept, originality, impact, practicality, measurability and/or applicability. Proposals with letters of support should include an itemized list with the name, title, and organization for each letter.

8. Proposal Description (1 Sentence)

A high-level description of the proposal including all deliverable(s).

9. Proposal Summary (1 Paragraph)

A detailed synopsis of the proposal, including how efficacy will be measured and its anticipated impact.

10. Proposal Overview and Impact/Measurability (1-2 Pages)

A proposal description that presents a logical approach and workable solution to addressing the issue of human trafficking in the transportation industry. Include responses to the following questions: Is the concept unique? Are anticipated beneficiaries clearly identified? Were human trafficking survivors consulted in the proposal development and/or how will survivor input be included in implementation? Are anticipated resources and costs outlined in detail? Can the proposal be implemented in a way requiring a finite amount of resources (e.g., fixed costs, low or no marginal costs, and a clear path to implementation and scale beyond an initial investment)? For impact and measurability, include a description of how the proposal will be evaluated, and its potential impact on human trafficking in the transportation industry. Include responses to the following questions: How will the proposal's impact be measured? How will the proposal contribute to counter-trafficking efforts in the transportation sector? If not a national proposal, can the proposal be scaled nationally?

11. Supporting Documents (No Page Limit)

The paper(s) and/or technologies, programs, video/audio files, and other related materials, describing the proposal and addressing the selection criteria. As applicable, this can include a description of success of a previous or similar proposal and/or documentation of impact. DOT may request additional information, including supporting documentation, more detailed contact information, releases of liability, and statements of authenticity to guarantee the originality of the work. Failure to respond in a timely manner may result in disqualification.

12. Eligibility Statement

A statement of eligibility by private entities indicating that they are incorporated in and maintain a primary place of business in the United States, or a statement of eligibility by individuals indicating that they are citizens or permanent residents of the United States.

Initial Screening

The Office of International Transportation and Trade (OITT) will initially review applications to determine that all required submission elements are included, and to determine compliance with eligibility requirements.

Evaluation

After the Initial Screening, OITT, with input from the relevant Operating Administrations, will judge entries based on the factors described below: technical merit, originality, impact, practicality, measurability, and applicability. The Secretary will make the final selection. The Department reserves the right to not award the prize if the selecting officials believe that no submission demonstrates sufficient potential for sufficient transformative impact. The following factors will be given consideration:

Technical Merit

• Does the proposal present a clear understanding of the issue of human trafficking in the transportation industry and utilizes a trauma-informed, victim-centered approach?

• Does the proposal present a logical and workable solution and approach to addressing human trafficking in the transportation industry?

• Were survivors of human trafficking consulted in the development of the proposal concept and is survivor input outlined in the description of proposal implementation?

Originality

• Is the concept new or a variation of an existing idea?

• Does the concept possess and clearly describe its unique merits?

Impact/Measurability

• Can the proposal make a significant impact and/or contribution to the fight against human trafficking in the transportation industry?

• Does the proposal clearly describe the breadth of impact?

• Does the submission clearly outline how the proposal will be measured?

• Will the proposal result in measurable improvements?

Practicality

• Does the proposal clearly identify anticipated beneficiaries of the proposal?

• Does the proposal clearly outline anticipated resources and all costs to be incurred by executing the concept?

• Can the proposal be implemented in a way that requires a finite amount of resources (specifically, the submission has fixed costs, low or no marginal costs, and a clear path to implementation and scale beyond an initial investment)?

Applicability

• Is the proposal national or can it be scaled nationally?

Award

Up to three winning entries are expected to be announced. The first-place winner will receive up to a $50,000 cash prize. A plaque with the first-place winner(s) name and the date of the award will be on display at the U.S. Department of Transportation, and a display copy of the plaque(s) will be sent to the first-place award winner. Two additional plaques will be awarded to recognize the two runners up. At the Department's discretion, DOT may pay for invitational travel expenses to Washington, DC, for up to two individuals or representatives of the first-place winner and runners up, should selectees be invited to present their proposal(s) for DOT officials.

Authority: 15 U.S.C. 3719 (America COMPETES Act).

Issued in Washington, DC, on December 30, 2024.
Carol A. Petsonk,
Assistant Secretary for Aviation and International Affairs.

[FR Doc. 2024-31630 Filed 1-3-25; 8:45 am]

BILLING CODE 4910-9X-P